DEPARTMENT OF HOUSING AND URBAN DEVELOPMENT

[Docket No. FR-5746-N-01]

Performance Review Board

AGENCY: Office of the Deputy Secretary, HUD.

ACTION: Notice of appointments.

SUMMARY: The Department of Housing and Urban Development announces the appointments of, Maurice A. Jones, Michael A. Anderson, Towanda A. Brooks, Kenneth M. Leventhal, Susan J. Shuback, Jemine A. Bryon, Stanley A. Gimont, John P. Benison, David R. Ziaya, Damon Y. Smith, Mary K. Kinney, Charles S. Coulter, Jean Lin Pao, Ricky T. Valentine, and Mary E. McBride as members of the Departmental Performance Review Board. The address is: Department of Housing and Urban Development, Washington, DC 20410-0050.

FOR FURTHER INFORMATION CONTACT: Persons desiring any further information about the Performance Review Board and its members may contact Juliette Middleton, Director, Office of Executive Resources, Department of Housing and Urban Development, Washington, DC 20410. Telephone (202) 402-3058. (This is not a toll-free number.)

Dated: November 7, 2013.
Maurice A. Jones,
Deputy Secretary.

[FR Doc. 2013-27259 Filed 11-13-13; 8:45 am]

BILLING CODE 4210-67-P